DEPARTMENT OF COMMERCE

International Trade Administration

[Application No. 99-6A002]

Export Trade Certificate of Review

ACTION: Notice of issuance of an amended Export Trade Certificate of Review to California Almond Export Association, LLC (“CAEA”) (Application #99-6A002).

SUMMARY: The U.S. Department of Commerce issued an amended Export Trade Certificate of Review to California Almond Export Association, LLC on August 29, 2013.

FOR FURTHER INFORMATION CONTACT: Joseph E. Flynn, Director, Office of Competition and Economic Analysis, International Trade Administration, by telephone at (202) 482-5131 (this is not a toll-free number) or email at etca@trade.gov.

SUPPLEMENTARY INFORMATION: Title III of the Export Trading Company Act of 1982 (15 U.S.C. Sections 4001-21) (“the Act”) authorizes the Secretary of Commerce to issue Export Trade Certificates of Review. The regulations implementing Title III are found at 15 CFR Part 325 (2013).

The Office of Competition and Economic Analysis (“OCEA”) is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

CAEA's Export Trade Certificate of Review has been amended to:

1. Delete the following company as a Member of CAEA's Certificate: North Valley Nut, Inc. (Orland, CA).

2. Change the name of the following Member: Roche Brothers International (Escalon, CA) to Roche Brothers International Family Nut Co. (Escalon, CA)

CAEA's Export Trade Certificate of Review complete amended membership is listed below:

Almonds California Pride, Inc., Caruthers, CA

Baldwin-Minkler Farms, Orland, CA

Blue Diamond Growers, Sacramento, CA

Campos Brothers, Caruthers, CA

Chico Nut Company, Chico, CA

Del Rio Nut Company, Inc., Livingston, CA

Fair Trade Corner, Inc., Chico, CA

Fisher Nut Company, Modesto, CA

Hilltop Ranch, Inc., Ballico, CA

Hughson Nut, Inc., Hughson, CA

Mariani Nut Company, Winters, CA

Minturn Nut Company, Inc., LeGrand, CA

Nutco, LLC d.b.a. Spycher Brothers, Turlock, CA

Paramount Farms, Inc., Los Angeles, CA

P-R Farms, Inc., Clovis, CA

Roche Brothers International Family Nut Co., Escalon, CA

South Valley Almond Company, LLC, Wasco, CA

Sunny Gem, LLC, Wasco, CA

Treehouse California Almonds, LLC, Los Angeles, CA

Western Nut Company, Chico, CA

Dated: September 11, 2013.
Joseph E. Flynn,
Director, Office of Competition and Economic Analysis.

[FR Doc. 2013-22957 Filed 9-20-13; 8:45 am]

BILLING CODE 3510-DR-P